DEPARTMENT OF COMMERCE

National Oceanic and Atmospheric Administration

RIN 0648-XG347

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day meeting of its Standing, Reef Fish, Mackerel and Shrimp Scientific and Statistical Committees (SSC).

DATES: The meeting will convene on Thursday, August 2, 2017, 8 a.m. to 5:30 p.m. EDT.

ADDRESSES: The meeting will be held at the Hilton Tampa Airport Westshore Hotel, located at 2225 N Lois Avenue, Tampa, FL 33607; telephone: (813) 877-6688.

Council address: Gulf of Mexico Fishery Management Council, 4701 W Spruce Street, Suite 200, Tampa, FL 33607; telephone: (813) 348-1630.

FOR FURTHER INFORMATION CONTACT: Dr. John Froeschke, Fishery Biologist, Gulf of Mexico Fishery Management Council; john.froeschke@gulfcouncil.org, telephone: (813) 348-1630.

SUPPLEMENTARY INFORMATION:

Thursday, August 2, 2018: 8 a.m.-5:30 p.m.

I. Introductions and Adoption of Agenda

II. Approval of May 31-June 1, 2018 SSC Minutes

III. Selection of SSC representative at August 20-23, 2018 Council meeting in Corpus Christi, TX

Standing and Mackerel SSC Session

IV. Options Paper—Modifications to Gulf of Mexico Migratory Group Cobia Size and Possession Limits

a. Updated catch-per-unit effort indices for Gulf cobia

b. Review of draft options paper

Standing, Reef Fish and Shrimp SSC Session

V. Update on Council Request regarding shrimp effort threshold reduction in the area monitored for juvenile red snapper bycatch

Standing and Reef Fish SSC Session

VI. Review of Procedure for Red Grouper Interim Analysis

VII. Overview of revised SEDAR process: Research, operational, and interim tacks

VIII. Council staff proposed modifications to the SEDAR process

IX. Determine need for a red snapper research track assessment in 2020, followed by an operational assessment in 2021

X. Selection of Workgroup Appointees for SEDAR 64—Yellowtail Snapper Benchmark Assessment

XI. Specify the TORs for the 2020 operational assessments for gag and greater amberjack

XII. Review of Gray Snapper Global SPR Analysis

XIII. Draft Reef Fish Amendment 48/Red Drum Amendment 5

a. Review of revised reference sheet

b. Action 1-MSY proxies issues and alternatives

i. Summary of MSY Proxies Working Group meeting

ii. Revised MSY proxies alternatives

c. Action 4-OY alternatives

i. Draft OY buffer spreadsheet

d. Actions 2 and 3 (MSST and MFMT)

VI. Tentative 2018/19 SSC Meeting Dates

VII. Other Business

—Meeting Adjourns

The meeting will be broadcast via webinar. You may register for the webinar by visiting www.gulfcouncil.org and clicking on the SSC meeting on the calendar. https://attendee.gotowebinar.com/register/3383291116212545537-. The Agenda is subject to change, and the latest version along with other meeting materials will be posted on www.gulfcouncil.org as they become available.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: July 16, 2018.
Tracey L. Thompson,
Acting Deputy Director, Office of Sustainable Fisheries, National Marine Fisheries Service.

[FR Doc. 2018-15469 Filed 7-18-18; 8:45 am]

BILLING CODE 3510-22-P